DEPARTMENT OF JUSTICE

Notice of Lodging of Consent Decree Pursuant to the Clean Water Act

Notice is hereby given that on March 18, 2010, a proposed Consent Decree in United States v. NuStar Pipeline Operating Partnership LP, Civ. A. No. 10-106, was lodged with the United States Court for the District of Nebraska.

In this action, the United States sought the penalties pursuant to Section 311 of the Clean Water Act, 33 U.S.C. 1321, against Defendant NuStar Pipeline Operating Partnership LP. The Complaint alleges that Defendant failed to comply with regulations issued pursuant to Section 311(j)(5) of the CWA, 33 U.S.C. 1321(j)(5), that require owners and operators of above ground oil storage facilities to prepare plans for preventing and containing spills and for responding to a worst case discharge at eight above ground oil storage facilities located in the States of Nebraska, Iowa and Kansas.

Pursuant to the proposed Consent Decree, Defendant will pay to the United States a civil penalty of $450,000 and preform a Supplemental Environmental Project estimated to cost NuStar $762,000. The SEP consists of installing continuous level detection instruments at seven above ground oil storage facilities which will provide on-line real time tank level information directly to the NuStar's control system.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. NuStar Pipeline Operating Partnership LP, Civ. A. No. 10-106 (District of Nebraska), Department of Justice Case Number 90-5-1-1-09282.

During the public comment period, the Consent Decree may be examined at the Office of the United States Attorney, District of Nebraska, First National Bank Building, 1620 Dodge St., Suite 1400, Omaha, NE 68102. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury.

Maureen Katz,
Assistant Section Chief.

[FR Doc. 2010-6324 Filed 3-22-10; 8:45 am]

BILLING CODE 4410-15-P